NUCLEAR REGULATORY COMMISSION

[NRC-2019-0181]

Standard Format and Content for Applications to Renew Nuclear Power Plant Operating Licenses

AGENCY: Nuclear Regulatory Commission.

ACTION: Regulatory guide; issuance.

SUMMARY: The U.S. Nuclear Regulatory Commission (NRC) is issuing Revision 2 to Regulatory Guide (RG) 1.188, “Standard Format and Content for Applications to Renew Nuclear Power Plant Operating Licenses.” This RG describes the standard format and content that the NRC staff considers acceptable for applications for renewal and subsequent renewal of operating licenses for commercial nuclear power plants.

DATES: Revision 2 to RG 1.188 is available on April 17, 2020.

ADDRESSES: Please refer to Docket ID NRC-2019-0181 when contacting the NRC about the availability of information regarding this document. You may obtain publicly-available information related to this document using any of the following methods:

• Federal Rulemaking website: Go to https://www.regulations.gov and search for Docket ID NRC-2019-0181. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. Revision 2 to RG 1.188 and the regulatory analysis may be found in ADAMS under Accession Nos. ML20017A265 and ML19213A343, respectively.

Regulatory guides are not copyrighted, and NRC approval is not required to reproduce them.

FOR FURTHER INFORMATION CONTACT: Bennett Brady, telephone: 301-415-2981, email: Bennett.Brady@nrc.gov, Amy Hull, telephone: 301-415-2435, email: Amy.Hull@nrc.gov, and Michael Eudy, telephone: 301-415-3104, email: Michael.Eudy@nrc.gov. All are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 2 of RG 1.188 was issued with a temporary identification of Draft Regulatory Guide, DG-1341. Revision 2 of RG 1.188 broadens the scope of the guide to include subsequent license renewal. Revision 2 of the guide endorses two industry guidance documents that describe methods that the staff of the NRC considers acceptable for use in preparing applications for license renewal and subsequent license renewal.

Specifically, this revision endorses Nuclear Energy Institute (NEI) 17-01, “Industry Guideline for Implementing the Requirements of 10 CFR part 54 for Subsequent License Renewal” (ADAMS Accession No. ML17339A599), which provides an acceptable approach for implementing the requirements of title 10 of the Code of Federal Regulations (10 CFR) part 54, “Requirements for Renewal of Operating Licenses for Nuclear Power Plants,” for subsequent license renewal. The guidance in NEI 17-01 is consistent with previously published NRC guidance. Among this guidance, in particular, NUREG-2191, Volumes 1 and 2, “Generic Aging Lessons Learned for Subsequent License Renewal (GALL-SLR) Report,” and NUREG-2192, “Standard Review Plan for Review of Subsequent License Renewal Applications for Nuclear Power Plants—Final Report,” (ADAMS Accession Nos. ML17187A031, ML17187A204 and ML17188A158). Both NUREG-2191 and NUREG-2192 underwent significant public interaction and extensive review by the Advisory Committee on Reactor Safeguards.

The RG applies to holders of operating licenses under 10 CFR part 50, “Domestic Licensing of Production and Utilization Facilities.” The RG could also apply to holders of combined licenses under 10 CFR part 52, “Licenses, Certifications, and Approvals for Nuclear Power Plants.” However, because no combined license holder is expected to use this RG for at least two decades, the NRC is not expanding the RG's applicability to combined license holders at this time.

II. Additional Information

The NRC published a notice of the availability of DG-1341 in the Federal Register on September 17, 2019 (84 FR 48953) for a 30-day public comment period. The public comment period closed on October 17, 2019. Public comments on DG-1341 and the staff responses to the public comments are available in ADAMS under Accession No. ML20017A259.

III. Congressional Review Act

This RG is a rule as defined in the Congressional Review Act (5 U.S.C. 801-808). However, the Office of Management and Budget has not found it to be a major rule as defined in the Congressional Review Act.

IV. Backfitting, Forward Fitting, and Issue Finality

Revision 2 of RG 1.188 describes one acceptable method for demonstrating compliance with 10 CFR part 54 for applicants for nuclear power plant license renewal and subsequent license renewal. This RG would not constitute backfitting as defined in 10 CFR 50.109, “Backfitting” and as described in NRC Management Directive 8.4, “Management of Backfitting, Forward Fitting, Issue Finality, and Information Requests” (ADAMS Accession No. ML18093B087); would not affect the issue finality of any approval issued under 10 CFR part 52; and would not constitute forward fitting as that term is defined and described in Management Directive 8.4. Existing licensees and applicants for license renewal or subsequent license renewal will not be required to comply with the positions set forth in this RG. Further information on the staff's use of the RG is contained in the RG under Section D., “Implementation.”

Dated: April 13, 2020.
For the Nuclear Regulatory Commission.
Thomas H. Boyce,
Chief, Regulatory Guidance and Generic Issues Branch, Division of Engineering, Office of Nuclear Regulatory Research.

[FR Doc. 2020-08134 Filed 4-16-20; 8:45 am]

BILLING CODE 7590-01-P